DEPARTMENT OF THE INTERIOR

National Park Service

[NPS-WASO-NAGPRA-21140; PPWOCRADN0-PCU00RP14.R50000]

Notice of Intent To Repatriate Cultural Items: Lakeshore Museum Center, Muskegon, MI

AGENCY: National Park Service, Interior.

ACTION: Notice.

SUMMARY: The Lakeshore Museum Center, in consultation with the appropriate Indian tribes or Native Hawaiian organizations, has determined that the cultural item listed in this notice meets the definition of an unassociated funerary object. Lineal descendants or representatives of any Indian tribe or Native Hawaiian organization not identified in this notice that wish to claim this cultural item should submit a written request to the Lakeshore Museum Center. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to the Lakeshore Museum Center at the address in this notice by July 8, 2016.

ADDRESSES: Sharon McCullar, Collections Curator, Lakeshore Museum Center, 430 West Clay, Muskegon, MI 49440, telephone (231) 722-0278, email sharon@lakeshoremuseum.org.

SUPPLEMENTARY INFORMATION: Notice is here given in accordance with the Native American Graves Protection and Repatriation Act (NAGPRA), 25 U.S.C. 3005, of the intent to repatriate a cultural item under the control of the Lakeshore Museum Center that meets the definition of unassociated funerary objects under 25 U.S.C. 3001(3)(B).

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

Sometime prior to 1985, a mano and metate set was removed from the vicinity of the Mission San Xavier, south of Tucson, AZ. The item was donated to the Muskegon County Museum, now known as the Lakeshore Museum Center. A statement provided by the donor asserting that the mano and metate set was collected from the vicinity of the Mission San Xavier, in a burial area, was affirmed in consultation with the Tohono O'Odham Nation of Arizona. The Tohono O'Odham Nation has a cultural affiliation with the mano and metate set based upon geographical, historical, and contextual information, and has requested the return of this unassociated funerary object.

Determinations Made by the Lakeshore Museum Center

Officials of the Lakeshore Museum Center have determined that:

• Pursuant to 25 U.S.C. 3001(3)(B), the one cultural item described above is reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the mano and metate set and Tohono O'Odham Nation of Arizona.

Additional Requestors and Disposition

Lineal descendants or representatives of any Indian tribe or Native Hawaiian organization not identified in this notice that wish to claim this cultural item should submit a written request with information in support of the claim to Sharon McCullar, Collections Curator, Lakeshore Museum Center, 430 West Clay, Muskegon MI 49440, telephone (231) 722-0278, email sharon@lakeshoremuseum.org, by July 8, 2016. After that date, if no additional claimants have come forward, transfer of control of the corn grinding stone set to Tohono O'Odham Nation may proceed.

The Lakeshore Museum Center is responsible for notifying the Tohono O'Odham Nation that this notice has been published.

Dated: May 23, 2016.
Melanie O'Brien,
Manager, National NAGPRA Program.

[FR Doc. 2016-13598 Filed 6-7-16; 8:45 am]

BILLING CODE 4312-50-P